DEPARTMENT OF COMMERCE

International Trade Administration

[A-428-602]

Brass Sheet and Strip From Germany: Preliminary Results of Antidumping Duty Administrative Review and Preliminary Determination of No Shipments; 2014-2015

AGENCY: Enforcement and Compliance, International Trade Administration, Department of Commerce.

SUMMARY: In response to a request from Petitioners¹, the Department of Commerce (the Department) is conducting an administrative review of the antidumping duty order on brass sheet and strip from Germany. The period of review (POR) is March 1, 2014, through February 28, 2015.² The review covers ten producers or exporters of subject merchandise.³ We preliminarily find that three of the producers or exporters for which the Department initiated a review, Schwermetall, ThyssenKrupp, and Wieland, had no shipments during the POR. Further, we preliminarily find that subject merchandise has been sold at less than normal value by seven of the companies subject to this review. ⁴ Interested parties are invited to comment on these preliminary results.

¹ The Petitioners are GBC Metals, LLC of Global Brass and Copper, Inc., dba Olin Brass, Heyco Metals, Inc., Aurubis Buffalo, Inc. PMX Industries, Inc. and Revere Copper Products, Inc.

² See Initiation of Antidumping and Countervailing Duty Administrative Reviews and Request for Revocation in Part, 79 FR 24398 (April 30, 2014) (Initiation).

³ The ten producers or exporters are: Aurubis Stolberg GmbH & Co. KG, Carl Schreiber GmbH, KME Germany AG & Co. KG, Messingwerk Plettenberg Herfeld GmbH & Co. KG (Messingwerk), MKM Mansfelder Kupfer & Messing GmbH, Schlenk Metallfolien GmbH & Co. KG, Schwermetall Halbzeugwerk GmbH & Co. KG (Schwermetall), Sundwiger Messingwerke GmbH & Co. KG, ThyssenKrupp VDM GmbH (ThyssenKrupp), and Wieland-Werke AG (Wieland).

⁴ The seven companies are: Aurubis Stolberg GmbH & Co. KG, Carl Schreiber GmbH, KME Germany AG & Co. KG, Messingwerk, MKM Mansfelder Kupfer & Messing GmbH, Schlenk Metallfolien GmbH & Co. KG, and Sundwiger Messingwerke GmbH & Co. KG.

DATES: Effective Date: April 11, 2016.

FOR FURTHER INFORMATION CONTACT: George McMahon, AD/CVD Operations, Office III, Enforcement and Compliance, International Trade Administration, U.S. Department of Commerce, 14th Street and Constitution Avenue NW, Washington, DC 20230; telephone: (202) 482-1167.

SUPPLEMENTARY INFORMATION:

Background

As explained in the memorandum from the Acting Assistant Secretary for Enforcement and Compliance, the Department has exercised its discretion to toll all administrative deadlines due to the recent closure of the Federal Government. All deadlines in this segment of the proceeding have been extended by four business days. Accordingly, the revised deadline for the preliminary results of this review is now April 5, 2016.⁵

⁵ See Memorandum to the Record from Ron Lorentzen, Acting Assistant Secretary for Enforcement & Compliance, regarding “Tolling of Administrative Deadlines As a Result of the Government Closure During Snowstorm Jonas,” dated January 27, 2016.

Scope of the Order

The merchandise subject to the antidumping duty order is brass sheet and strip, other than leaded brass and tin brass sheet and strip, from Germany, which is currently classified under subheading 7409.21.00.50, 7409.21.00.75, 7409.21.00.90, 7409.29.00.50, 7409.29.00.75, and 7409.29.00.90 of the Harmonized Tariff Schedule of the United States (HTSUS). Although the HTSUS subheadings are provided for convenience and customs purposes, the written description of the merchandise subject to the order is dispositive.⁶

⁶ For a full description of the scope of the order, see the “Decision Memorandum for Preliminary Results of the Antidumping Duty Administrative Review: Brass Sheet and Strip from Germany; 2014-2015” from Gary Taverman, Associate Deputy Assistant Secretary for Antidumping and Countervailing Duty Operations, to Ronald K. Lorentzen, Acting Assistant Secretary for Enforcement and Compliance, dated concurrently with this notice (Preliminary Decision Memorandum).

Methodology

In accordance with sections 776(a) and (b) of the Tariff Act of 1930, as amended (the Act), we relied on facts available with an adverse inference with respect to Messingwerk, the sole company selected for individual examination in this review, and assigned to it a preliminary dumping margin of 55.60 percent. In making these findings, we relied on facts available because Messingwerk failed to respond to the Department's antidumping duty questionnaire, and thus withheld requested information, failed to provide requested information by the established deadlines, and significantly impeded this proceeding. See sections 776(a)(1) and (2)(A)-(C) of the Act. Furthermore, because we preliminarily determine that Messingwerk failed to cooperate by not acting to the best of its ability to comply with the Department's requests for information, we drew an adverse inference in selecting from among the facts otherwise available. See section 776(b) of the Act.

Additionally, as indicated in the “Preliminary Results of Review” section below, we preliminarily determine that a margin of 22.61 percent applies to the six firms not selected for individual review, i.e., an average of the range of certain dumping margins contained in the underlying Petition.⁷ For further information, see the Preliminary Decision Memorandum at “Rate for Non-Examined Companies.”

⁷ See Brass Sheet and Strip From The Federal Republic of Germany; Initiation of Antidumping Duty Investigation, 51 FR 11774 (April 7, 1986).

For a full description of the methodology underlying our conclusions, see the Preliminary Decision Memorandum. A list of topics included in the Preliminary Decision Memorandum is included in the Appendix attached to this notice.

The Preliminary Decision Memorandum is a public document and is on file electronically via Enforcement and Compliance's Antidumping and Countervailing Duty Centralized Electronic Service System (ACCESS). ACCESS is available to registered users at http://access.trade.gov and to all parties in the Central Records Unit, room B8024 of the main Department of Commerce building. In addition, a complete version of the Preliminary Decision Memorandum can be accessed directly on the Internet at: http://enforcement.trade.gov/frn/index.html. A list of the topics discussed in the Preliminary Decision Memorandum is attached as an Appendix to this notice.

Preliminary Determination of No Shipments

Based on our analysis of U.S. Customs and Border Protection (CBP) information and information provided by Schwermetall, ThyssenKrupp, and Wieland, we preliminarily determine that these companies had no shipments of the subject merchandise, and, therefore, no reviewable transactions, during the POR. For a full discussion of this determination, see the Preliminary Decision Memorandum.

Preliminary Results of Review

As a result of our review, we preliminarily determine that the following dumping margins on brass sheet and strip from Germany exist for the period March 1, 2014, through February 28, 2015, at the following rates:

Producer and/or Exporter | Margin (percent)
Aurubis Stolberg GmbH & Co. KG | 22.61
Carl Schreiber GmbH | 22.61
KME Germany AG & Co. KG | 22.61
Messingwerk Plettenberg Herfeld GmbH & Co. KG | 55.60
MKM Mansfelder Kupfer & Messing GmbH | 22.61
Schlenk Metallfolien GmbH & Co. KG | 22.61
Sundwiger Messingwerke GmbH & Co. KG | 22.61

Disclosure and Public Comment

Pursuant to 19 CFR 351.309(c), interested parties may submit case briefs not later than 30 days after the date of publication of this notice. Rebuttal briefs, limited to issues raised in the case briefs, may be filed not later than five days after the date for filing case briefs.⁸ Parties who submit case briefs or rebuttal briefs in this proceeding are encouraged to submit with each argument: (1) A statement of the issue; (2) a brief summary of the argument; and (3) a table of authorities.⁹ Interested parties who wish to comment on the preliminary results must file briefs electronically using ACCESS.¹⁰ An electronically-filed document must be received successfully in its entirety in ACCESS, by 5 p.m. Eastern Time (ET) on the date the document is due.

⁸ See 19 CFR 351.309(d).

⁹ See 19 CFR 351.303 (for general filing requirements).

¹⁰ Id.

Pursuant to 19 CFR 351.310(c), interested parties who wish to request a hearing, or to participate if one is requested, must submit a written request to the Assistant Secretary for Enforcement and Compliance, filed electronically via ACCESS. An electronically filed document must be received successfully in its entirety in ACCESS by 5 p.m. ET within 30 days after the date of publication of this notice. Requests should contain: (1) The party's name, address and telephone number; (2) the number of participants; and (3) a list of issues to be discussed. Issues raised in the hearing will be limited to those raised in the respective case briefs.

The Department intends to issue the final results of this administrative review, including the results of its analysis of the issues raised in any written briefs, not later than 120 days after the date of publication of this notice, pursuant to section 751(a)(3)(A) of the Act.

Assessment Rates

Upon issuance of the final results, the Department shall determine, and CBP shall assess, antidumping duties on all appropriate entries covered by this review. If the preliminary results are unchanged for the final results we will instruct CBP to apply an ad valorem assessment rate of 55.60 percent to all entries of subject merchandise during the POR which were produced and/or exported by Messingwerk, and an ad valorem assessment rate of 22.61 percent to all entries of subject merchandise during the POR which were produced and/or exported by the six aforementioned companies which were not selected for individual examination.

We intend to issue liquidation instructions to CBP 15 days after publication of the final results of review.

Cash Deposit Requirements

The following deposit requirements will be effective upon publication of the notice of final results of administrative review for all shipments of brass sheet and strip from Germany entered, or withdrawn from warehouse, for consumption on or after the date of publication, as provided by section 751(a)(2) of the Act: (1) The cash deposit rates for the reviewed companies will be the rates established in the final results of this review; (2) for merchandise exported by manufacturers or exporters not covered in this review but covered in a prior segment of the proceeding, the cash deposit rate will continue to be the company-specific rate published for the most recently completed segment of this proceeding; (3) if the exporter is not a firm covered in this review, a prior review, or the less-than-fair-value investigation but the manufacturer is, the cash deposit rate will be the rate established for the most recently completed segment of this proceeding for the manufacturer of the merchandise; (4) if neither the exporter nor the manufacturer has its own rate, the cash deposit rate will be 7.30 percent.¹¹ These deposit requirements, when imposed, shall remain in effect until further notice.

¹¹ See Preliminary Decision Memorandum for additional details.

Notifications to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification to Interested Parties

This notice is issued and published in accordance with sections 751(a)(1) and 777(i)(1) of the Act.

Dated: April 6, 2016.
Ronald K. Lorentzen,
Acting Assistant Secretary for Enforcement and Compliance.

Appendix

List of Topics Discussed in the Preliminary Decision Memorandum

A. Summary

B. Background

C. Scope of the Order

D. Discussion of the Methodology

1. Selection of Respondents

2. No Shipment Claims by Schwermetall, ThyssenKrupp, and Wieland

3. Use of Facts Otherwise Available

a. Use of Facts Available

b. Application of Facts Available With an Adverse Inference

c. Selection and Corroboration of Information Used As Facts Available

4. Rate for Companies Not Selected for Individual Examination

E. Recommendation

[FR Doc. 2016-08231 Filed 4-8-16; 8:45 am]

BILLING CODE 3510-DS-P